DEPARTMENT OF HOUSING AND URBAN DEVELOPMENT

[Docket No. FR-4653-N-07]

Notice of Proposed Information Collection for Public Comment: Interim Evaluation of Moving to Opportunity Demonstration

AGENCY: Office of the Assistant Secretary for Policy Development and Research, HUD.

ACTION: Notice.

SUMMARY: The proposed information collection requirement described below will be submitted to the Office of Management and Budget (OMB) for review, as required by the Paperwork Reduction Act of 1995. The Department is soliciting public comments on the subject proposal.

DATES: Comments Due Date: August 17, 2001.

ADDRESSES: Interested persons are invited to submit comments regarding this proposal. Comments should refer to the proposal by name and/or OMB Control Number and should be sent to: Reports Liaison Officer, Office of Policy Development and Research, Department of Housing and Urban Development, 451 7th Street, SW., Room 8226, Washington, DC 20410-5000.

FOR FURTHER INFORMATION CONTACT: Todd Richardson at, (202) 708-3700, extension 5706 for copies of the proposed forms and other relevant documents. (This is not a toll-free number). The proposed forms and other documents can also be viewed via the internet at the web site http://www.huduser.org/ research/eval.html.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Data Collection for the Interim Impact Evaluation of the Moving to Opportunity Demonstration.

Description of the need for the information and proposed use: This request is for the clearance of several survey instruments for the Interim Evaluation of the Moving to Opportunity (MTO) demonstration program. Authorized by Congress in the Housing and Community Development Act of 1992, MTO is a unique experimental research demonstration designed to learn whether moving from a high-poverty neighborhood to a low-poverty neighborhood significantly improves the social and economic prospects of poor families. Families living in high poverty public and assisted housing in Baltimore, Boston, Chicago, Los Angeles and New York who applied for MTO were randomly assigned into two treatment groups and one control group between 1994 and 1998. Families assigned to the treatment groups were provided Section 8 to allow them to move out of the high poverty developments. Families in one of the treatment groups received intensive mobility counseling and were required to lease a unit in a neighborhood with less than ten percent poverty. The other treatment group families could lease a unit wherever they chose, but only received the normal housing authority counseling. Those families assigned to the control group did not receive any Section 8 assistance but continued to receive project-based assistance.

This data collection is necessary to measure impacts and mediators approximately 5-years after families were randomly assigned to the two treatment groups and the control group. The data are planned to be collected for six primary domains: housing mobility and assistance; adult education, employment and earnings; household income and cash assistance; adult, youth, and child physical and mental health; youth and child social well-being, including delinquency and risky behavior; and youth and child educational performance.

An estimated 3,800 adults heads of household will be interviewed using the adult interview guide. In addition to questions about themselves and their household in general, adults will be asked questions about up to two randomly selected children/youth between the ages of 5 and 19. Approximately 3,000 youth between the ages of 12 and 19 will be interviewed using the youth interview guide. An estimated 2,100 children between the ages of 8 and 11 will be interviewed using the child interview guide. Finally, the youth and children noted above plus approximately 900 children between the ages of 5 and 7 will take an educational achievement test to measure reading and math skills. All interviewers and testing will be conducted in-person by interviewers using computer-assisted personal interviewing (CAPI) software to directly input the data into a laptoop computer. The youth interviewing and testing will take place at conveniently located test centers. Incentive payments will be made to respondents participating in this survey in order to ensure a high response rate. Adult respondents will receive $10 for responding to an initial mailing seeking contact information, $50 for responding to the main adult survey instrument, and $25 for answering questions about their youth/children. Youth will receive $50 for responding to the interview and completing the achievement test. Small gifts (worth $5 or less) for children under 12 who cooperate with testing and (if 8-11) the interview. Data gathered will be used by Abt Associates and the National Bureau of Economic Research to prepare a report to HUD on the interim impacts of MTO. Subject to maintaining the privacy and confidentiality of respondents, the data collected will also be used by academics and HUD policy analysts to further explore what specific neighborhood mediating factors contribute to the neighborhood impact on outcomes for families and children. The information will be used by HUD and Congress to guide future housing policy in many areas, including housing mobility assistance and the location and concentration of assisted housing.

Members of affected public: Individuals or households.

Estimation of the total number of hours needed to prepare the information collection including number of respondents, frequency of response, and hours of response: 3,800 adults at 65 minutes; 3,000 youth with 30 minute survey, 45 minute achievement test, and 60 minute travel time to and from test center; 2,100 children ages 8-11 with 15 minute survey and 45 minute achievement test; and 900 children ages 5-7 with 30 minute achievement test. One-time response, total 13,446 reporting burden hours.

Status of the proposed information collection: Pending OMB approval.

Authority: Section 3506 of the Paperwork Reduction Act of 1995, 44 U.S.C. Chapter 35, as amended.

Dated: June 8, 2001.
Lawrence L. Thompson,
General Deputy Assistant Secretary for Policy Development And Research.

[FR Doc. 01-15216 Filed 6-15-01; 8:45 am]

BILLING CODE 4210-62-M